DEPARTMENT OF AGRICULTURE

National Appeals Division

Notice of Request for Approval of an Information Collection

AGENCY: National Appeals Division, USDA.

ACTION: Proposed collection.

SUMMARY: Notice. In accordance with the Paperwork Reduction Act of 1995 (44 U.S.C. Chapter 35), this notice announces the intention of the National Appeals Division (NAD) to request approval of a voluntary information collection for the purpose of setting customer service standards.

DATES: Comments on this notice must be received by February 3, 2003.

FOR FURTHER INFORMATION CONTACT: Jerry Jobe, USDA/NAD Suite 1100, 3101 Park Center Drive, Alexandria, VA 22302, (703-305-2514).

SUPPLEMENTARY INFORMATION: Title: National Appeals Division Customer Service Survey.

OMB Number: Not yet designated.

Type of Request: Approval of a new information collection.

Abstract: Executive Order 12862 requires Federal Agencies to identify the customers who are, or should be served by the Agency and survey those customers to determine the kind and quality of services they want and their level of satisfaction with existing services. Agencies will then use the results to the survey to establish customer service standards.

The National Appeals Division (NAD) of the U.S. Department of Agriculture was established by the Secretary of Agriculture on October 20, 1994, by Secretary's Memorandum 1010-1, pursuant to the Federal Crop Insurance Reform and Department of Agriculture Reorganization Act of 1994 (Pub. L. 103-354, section 271 et seq. (October 13, 1994). The Act consolidated the appellate functions and staffs of several USDA Agencies to provide for independent hearings and reviews of adverse Agency decisions. NAD is responsible for all administrative appeals arising from program activities of assigned Agencies, as well as such other administrative appeals arising from decisions of Agencies and offices of USDA as may be assigned by the Secretary. NAD appeals involve program decisions of the Farm Service Agency, Risk Management Agency, Natural Resources Conservation Service, Rural Business-Cooperative Service, Rural Housing Service, and Rural Utilities Service.

Need of the Information: The information collection in this request is essential for NAD to comply with the requirement of Executive Order 12862 to set customer service standards. The information collected is used only by authorized representatives of USDA.

Estimate of Burden: Public reporting burden for this collection of information is estimate to average 0.25 hours per response.

Respondents: The primary respondents will be individuals and/or households who are participants in Farm Service Agency and Rural Housing Service programs. A small percentage of respondents may be businesses, institutions or state and local governments.

Estimated Number of Respondents: 1176.

Estimated Number of Responses per Respondent: 1.00.

Estimated Total Annual Burden on Respondents: 294.

Copies of this information collection can be obtained from Jerry Jobe, National Appeals Division at (703) 305-2514.

Send comments regarding, but not limited to the following: (a) Whether the collection of the information is necessary for the proper performance of the functions of NAD, including whether the information will have a practical utility; (b) the accuracy of NAD's estimates of the burden including the validity of the methodology and assumptions used; (c) ways to enhance the quality, utility, and clarity of the information to be collected; and (d) ways to minimize the burden of the collection of information on those who are to respond, including the use of appropriate automated, electronic, mechanical, or other technological collection techniques, or other technological collection techniques, or other forms of information technology. Comments should be addressed to Jerry Jobe, Deputy Director for Planning, Training and Quality Control, USDA/NAD, Suite 1100, 3101 Park Center Drive, Alexandria, VA 22302. All responses to this notice will be summarized and included in the request for OMB approval. All comments will also become a matter of public record.

Dated: September 4, 2002
Roger J. Klurfeld,
Director, National Appeals Division.

[FR Doc. 02-30835 Filed 12-4-02; 8:45 am]

BILLING CODE 3410-WY-M